FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 18, 2002.

A. Federal Reserve Bank of St. Louis (Randall C. Sumner, Vice President) 411 Locust Street, St. Louis, Missouri 63166-2034:

1. Terry E. Forcht, Marion C. Forcht, Corbin, Kentucky; Theodore B. Forcht, Williamsburg, Kentucky; Rodney S. Shockley, and Laurie S. Shockley, Marietta, Kentucky; acting in concert to retain control of the voting shares of PRP Bancorp, Inc., Corbin, Kentucky, and thereby indirectly retain voting shares of PRP National Bank, Pleasure Ridge Park, Kentucky.

2. Terry E. Forcht, Marion C. Forcht,Corbin, Kentucky; Theodore B. Forcht, Williamsburg, Kentucky; Rodney S. Shockley, and Laurie S. Shockley, Marietta, Kentucky; acting in concert to retain control of Green County Bancshares, Inc., Corbin, Kentucky, and thereby indirectly retain voting shares of Greensburg Deposit Bank & Trust Company, Greensburg, Kentucky.

3. Terry E. Forcht, Marion C. Forcht, Corbin, Kentucky; Theodore B. Forcht, Williamsburg, Kentucky; Rodney S. Shockley, and Laurie S. Shockley, Marietta, Kentucky; acting in concert to retain control of Campbellsville Bancorp, Inc., Corbin, Kentucky, and thereby indirectly retain voting shares of Campbellsville National Bank, Campbellsville, Kentucky.

B. Federal Reserve Bank of Minneapolis (Julie Stackhouse, Vice President) 90 Hennepin Avenue, Minneapolis, Minnesota 55480-0291:

1. David Cyril Arnold, North Mankato, Minnesota; to acquire voting shares of Voyager Financial Services Corporation, Edina, Minnesota, and thereby indirectly acquire voting shares of Voyager Bank, Eden Prairie, Minnesota.

Board of Governors of the Federal Reserve System, October 29, 2002.
Robert deV. Frierson,
Deputy Secretary of the Board.

[FR Doc. 02-28024 Filed 11-4-02; 8:45 am]

BILLING CODE 6210-01-S